DEPARTMENT OF ENERGY

Federal Energy Regulatory Commission

[Docket No. CP09-460-000]

ETC Tiger Pipeline Company, LLC; Notice of Availability of the Environmental Assessment for the Proposed ETC Tiger Pipeline Project

January 26, 2010.

The staff of the Federal Energy Regulatory Commission (FERC or Commission) has prepared an environmental assessment (EA) for the ETC Tiger Pipeline Project (Project) proposed by ETC Tiger Pipeline Company, LLC (ETC Tiger) in the above referenced docket. ETC Tiger requests authorization to construct, own, operate, and maintain the proposed Project, which consists of an interstate natural gas pipeline and associated ancillary facilities. The proposed Project would transport about 2.0 billion cubic feet of natural gas per day from east Texas and northwest Louisiana to the Midwest, Northeastern, and Southeastern markets.

The EA assesses the potential environmental effects of the construction and operation of the proposed ETC Tiger Pipeline Project in accordance with the requirements of the National Environmental Policy Act. The FERC staff concludes that approval of the proposed Project, with appropriate mitigating measures, would not constitute a major federal action significantly affecting the quality of the human environment.

This EA was prepared in cooperation with U.S. Army Corps of Engineers, U.S. Fish and Wildlife Service, Natural Resources Conservation Service, the Texas Parks and Wildlife Department and the Louisiana Department of Wildlife and Fisheries.

The proposed ETC Tiger Pipeline Project includes the following proposed facilities:

• About 175.0 miles of 42-inch-diameter natural gas pipeline in Panola County, Texas, and Caddo, DeSoto, Red River, Bienville, Jackson, Ouachita, Richland, and Franklin Parishes, Louisiana;

• About 0.4 mile of 42-inch-diameter interconnecting station pipeline in Richland Parish, Louisiana;

• Four compressor stations: the Carthage, Cannisnia, Bienville, and Chatham Compressor Stations, located in Panola County, Texas; Red River Parish, Louisiana; Bienville Parish, Louisiana; and Jackson Parish, Louisiana, respectively;

• One bidirectional meter and regulator station at a receipt/delivery point with an intrastate pipeline, the Houston Pipe Line Meter/Regulator (M/R) Station in Panola County, Texas;

• Eight new meter and regulator stations at receipt points with four pipeline systems, including:

—Two Chesapeake Energy Marketing, Inc. (Chesapeake) M/R Stations in DeSoto Parish, Louisiana;

—EnCana Marketing (USA) (EnCana) M/R Station in DeSoto Parish, Louisiana;

—Questar Exploration and Production Company (Questar) M/R Station in Red River Parish, Louisiana;

—EnCana M/R Station in Red River Parish, Louisiana;

—Tristate North Louisiana Midstream, LLC (Tristate) M/R Station in Red River Parish, Louisiana;

—Questar M/R Station in Bienville Parish, Louisiana; and

—EnCana M/R Station in Bienville Parish, Louisiana;

• Interconnects with seven existing interstate pipelines at delivery points including:

—Texas Eastern Transmission, L.P. (TETCO) M/R Station in Bienville Parish, Louisiana;

—Tennessee Gas Pipeline Company (Tennessee Gas) M/R Station in Jackson Parish, Louisiana;

—Texas Gas Transmission, LLC (Texas Gas) M/R Station in Ouachita Parish, Louisiana;

—Trunkline Gas Company, LLC (Trunkline) M/R Station in Richland Parish, Louisiana;

—ANR Pipeline Company (ANR) M/R Station in Richland Parish, Louisiana;

—Columbia Gulf Transmission Company (CGT) M/R Station in Richland Parish, Louisiana; and

—Southeast Supply Header, LLC (SESH) M/R Station in Richland Parish, Louisiana;

• Fifteen mainline valves; and

• Three pig launcher/receiver facilities associated with the Carthage and Bienville Compressor Stations, to be located within the permanent right-of-way at the terminus of the pipeline.

The EA has been placed in the public files of the FERC and is available for public viewing on the FERC's Web site at http://www.ferc.gov using the eLibrary link. A limited number of copies of the EA are available for distribution and public inspection at: Federal Energy Regulatory Commission, Public Reference Room, 888 First Street, NE., Room 2A, Washington, DC 20426, (202) 502-8371.

Copies of the EA have been mailed to federal, state, and local agencies; interested groups and individuals; newspapers and libraries in the Project area; and parties to this proceeding.

Any person wishing to comment on the EA may do so. Your comments should focus on the potential environmental effects, reasonable alternatives, and measures to avoid or lessen environmental impacts. The more specific your comments, the more useful they will be. To ensure that your comments are properly recorded and considered prior to a Commission decision on the proposal, it is important that we receive your comments in Washington, DC on or before February 26, 2010.

For your convenience, there are three methods you can use to submit your comments to the Commission. In all instances please reference the Project docket number (CP09-460-000) with your submission. The Commission encourages electronic filing of comments and has dedicated eFiling expert staff available to assist you at (202) 502-8258 or efiling@ferc.gov.

(1) You may file your comments electronically by using the Quick Comment feature, which is located on the Commission's Web site at http://www.ferc.gov under the link to Documents and Filings. A Quick Comment is an easy method for interested persons to submit text-only comments on a project;

(2) You may file your comments electronically by using the eFiling feature, which is located on the Commission's Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing”; or

(3) You may file your comments on paper at the following address: Kimberly D. Bose, Secretary, Federal Energy Regulatory Commission, 888 First Street, NE., Room 1A, Washington, DC 20426.

Although your comments will be considered by the Commission, simply filing comments will not serve to make the commentor a party to the proceeding. Any person seeking to become a party to the proceeding must file a motion to intervene pursuant to Rule 214 of the Commission's Rules of Practice and Procedures (18 Code of Federal Regulations (CFR) 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the Project is available from the Commission's Office of External Affairs, at (866) 208-FERC or on the FERC Web site (http://www.ferc.gov) using the eLibrary link. Click on the eLibrary link, click on “General Search” and enter the docket number excluding the last three digits in the Docket Number field (i.e., CP09-460). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to http://www.ferc.gov/esubscribenow.htm.

Kimberly D. Bose,
Secretary.

[FR Doc. 2010-2108 Filed 2-1-10; 8:45 am]

BILLING CODE 6717-01-P